DEPARTMENT OF DEFENSE

Office of the Secretary

[Docket No. DoD-2007-OS-0144]

Proposed Collection; Comment Request

AGENCY: Defense Security Service, DoD.

ACTION: Notice.

In compliance with Section 3506(c)(2)(A) of the Paperwork Reduction Act of 1995, the Defense Security Service (DSS) announces the proposed revision of a public information collection and seeks public comments on the provision thereof. Comments are invited on: (a) Whether the proposed collection is necessary for the proper performance of the functions of the agency, including whether the information shall have practical utility; (b) the accuracy of the agency's estimate of the burden hours of the information to be collected; and (c) ways to enhance the quality, utility and clarity of the information to be collected; and (d) ways to minimize the burden of the information collection on respondents.

DATES: Consideration will be given to all comments received by February 26, 2008

ADDRESS: You may submit comments, identified by docket number and title, by any of the following methods:

• Federal Rule Making Portal: http://www.regulations.gov. Follow the instructions for submitting comments.

• Mail: Federal Docket Management System Office, 1160 Defense Pentagon, Washington, DC 20301-1160

Instructions: All submissions received must include agency name, docket number and title for this Federal Register document. The general policy of comments and other submissions from members of the public is to make these submissions available for public viewing on the internet at http://www.regulations.gov as they are received without change, including any personal identifiers or contract information.

FOR FURTHER INFORMATION CONTACT: To request more information on this proposed information collection or to obtain a copy of the proposal and associated collection instruments, please write to Defense Security Service, ATTN: Ms. Valerie Heil, Personnel Security Clearance Office, 1340 Braddock Place, Alexandria, VA 22314, or telephone Ms. Heil at 703-325-6050.

Title; Associated Form; and OMB Number: Personnel Security Investigation Projection for Industry Survey; DSS Form 232; OMB Number 0704-0417.

Needs and Uses: The execution of the DSS Form 232 is an essential factor in projecting the needs of cleared contractor entities for personnel security investigations (PSIs). This collection of information requests the assistance of the Facility Security Officer to provide projections of the numbers and types of PSIs. The data will be incorporated into DSS' budget submissions and used to track against actual PSI submissions. The form will be distributed electronically via a web-based commercial survey tool.

Affected Public: Business, or other profit and non-profit organizations under Department of Defense Security Cognizance.

Annual Burden Hours: 15,188.

Number of Respondents: 12,150.

Responses Per Respondent: 1.

Average Burden Per Response: 75 minutes.

Frequency: Annually.

SUPPLEMENTARY INFORMATION:

Summary of Information Collection

Executive Order (EO) 12829, “National Industrial Security Program (NISP),” stipulates that the Secretary of Defense shall serve as the Executive Agent for inspecting and monitoring the contractors, licensees, and grantees who require or will require access to classified information; and for determining the eligibility for access to classified information of contractors, licensees, and grantees and their respective employees. E.O. 12829 also authorizes the Executive Agent to issue, after consultation with affected agencies, standard forms that will promote the implementation of the NISP.

The Under Secretary of Defense for Intelligence assigned DSS to exercise authority and responsibility for central operational management of DoD PSI workload projections, and monitoring of PSI funding and investigation quality issues for DoD components to include cleared contractors under the National Industrial Security Program. In the past, DSS has relied on historical data for agency budget projections regarding the numbers of PSIs required by cleared contractor entities; however, historical data did not provide a particularly accurate or credible estimate of such workload. In this annual collection of information, DSS asks the Facility Security Officers of cleared contractor entities to provide projections of the numbers and types of personnel security investigations required as well as providing a description of the methodology used for the projections, and the percentage of the cleared contractor's projections representing DoD and non-DoD (NISP) agencies PSI requirements for cleared contractors. The data will be incorporated into DSS' budget submissions and to track against actual cleared contractor's actual PSI submissions.

The Office of Personnel Management (OPM) has responsibility to conduct PSIs and the subsequent periodic reinvestigations (PRs) in accordance with the Code of Federal Regulations, Title 5, Part 736.

Representative of various industry associations, the National Industrial Security Program Policy Advisory Committee (NISPPAC), the Military Services, various elements of the Department of Defense and other Federal Government Agencies are familiar with the annual survey.

Dated: December 7, 2007.
Patricia L. Toppings,
Alternate OSD Federal Register Liaison Officer, Department of Defense.

[FR Doc. E7-25195 Filed 12-27-07; 8:45 am]

BILLING CODE 5001-06-P